DEPARTMENT OF DEFENSE

Department of the Army

Availability of Non-Exclusive, Exclusive License or Partially Exclusive Licensing of U.S. Patent Concerning Enzyme-Catalyzed Modifications of Macromolecules in Organic Solvents

Correction

In notice document 02-24532 appearing on page 61078 in the issue of Friday, September 27, 2002, make the following correction:

On page 61078, the first column, in the first line, under the SUMMARY section, in the first line, “37b CFR” should read “37 CFR”.

[FR Doc. C2-24532 Filed 10-2-02; 8:45 am]

BILLING CODE 1505-01-D

DEPARTMENT OF DEFENSE

Department of the Army; Corps of Engineers

Intent to Prepare a Draft Environmental Impact Statement for the Florida Bay/Florida Keys Intergrated Feasibility Study

Correction

In notice document 02-24533 appearing on page 61080 in the issue of Friday, September 27, 2002, make the following correction:

On page 61080, in the first column, under the FOR FURTHER INFORMATION CONTACT section, in the last line, “3592” should read “3582”.

[FR Doc. C2-24533 Filed 10-2-02; 8:45 am]

BILLING CODE 1505-01-D

DEPARTMENT OF HEALTH AND HUMAN SERVICES

42 CFR Part 81

RIN 0920-ZA01

Guidelines for Determining the Probability of Causation Under the Energy Employees Occupational Illness Compensation Program Act of 2000; Final Rule

Correction

In rule document 02-10764 beginning on page 22296 in the issue of Thursday, May 2, 2002, make the following correction:

§ 81.25 [Corrected]

On page 22313, in the second column, in §81.25, the first line of Equation 1 is corrected to read as set forth below.

Calculate: 1−[{1−PC1} × {1−PC2} × . . . ×

[FR Doc. C2-10764 Filed X-XX-02; 8:45 am]

BILLING CODE 1505-01-D

DEPARTMENT OF HEALTH AND HUMAN SERVICES

National Institutes of Health

National Heart, Lung, and Blood Institute; Notice of Closed Meeting

Correction

In notice document 02-23960 beginning on page 59297 in the issue of Friday, September 20, 2002, make the following correction:

On page 59297, in the third column, under the heading “Time:”, “7 a.m. to 4 p.m.” should read, “7 p.m. to 4 p.m.”.

[FR Doc. C2-23960 Filed 10-2-02; 8:45 am]

BILLING CODE 1505-01-D